DEPARTMENT OF THE INTERIOR

Bureau of Land Management

[CA-650-02-1610-JP-064B]

Notice of Extension of Scoping Phase Public Comment Period

AGENCY: Bureau of Land Management, Interior.

ACTION: Notice of extension of the scoping phase public comment period for an Amendment to the California Desert Conservation Area Plan and Environmental Impact Statement regarding vehicle route designation in the Surprise Canyon Area of Critical Environmental Concern.

SUMMARY: The Notice of Intent for the Amendment to the California Desert Conservation Area Plan and Environmental Impact Statement regarding vehicle route designation in the Surprise Canyon Area of Critical Environmental Concern, Inyo County, California was published in the Federal Register on May 30, 2002 (Volume 67, Number 104, Pages 37859-37860).

DATES: The time period for accepting written comments on the scope of the proposed plan amendment and Environmental Impact Statement has been extended to October 3, 2002.

ADDRESSES: Comments should be sent to Hector Villalobos, Field Manager, Bureau of Land Management, Ridgecrest Field Office, 300 S. Richmond Rd., Ridgecrest, CA 93555. Comments, including names and addresses of respondents, will be available for public review at the Ridgecrest Field Office during normal working hours (7:30 a.m. to 4 p.m., Monday through Friday, except holidays), and may be published as part of the Environmental Impact Statement or other related documents. Individuals may request confidentiality. If you wish to withhold your name or address from public review or from disclosure under the Freedom of Information Act, you must state this at the beginning of your comment letter. Such requests will be honored to the extent allowed by law. All submissions from organizations or businesses will be made available for public inspection in their entirety.

FOR FURTHER INFORMATION CONTACT: Jeffrey B. Aardahl, Bureau of Land Management, Ridgecrest Field Office, 300 S. Richmond Rd., Ridgecrest, CA 93555, telephone number (760) 384-5420, or e-mail at jaardahl@ca.blm.gov.

Dated: June 12, 2002.
Hector Villalobos,
Field Manager.

[FR Doc. 02-22388 Filed 8-30-02; 8:45 am]

BILLING CODE 4310-$$-P